OFFICE OF PERSONNEL MANAGEMENT

Excepted Service

AGENCY: U.S. Office of Personnel Management (OPM).

ACTION: Notice.

SUMMARY: This notice identifies Schedule A, B, and C appointing authorities applicable to a single agency that were established or revoked from August 1, 2015, to August 31, 2015.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during August 2015.

Schedule B

No Schedule B Authorities to report during August 2015.

Schedule C

The following Schedule C appointing authorities were approved during August 2015.

Agency name | Organization name | Position title | Authorization No. | Effective date
DEPARTMENT OF AGRICULTURE | Office of the Assistant Secretary for Congressional Relations | Legislative Analyst | DA150167 | 8/4/2015
| Rural Housing Service | State Director—North Dakota | DA150169 | 8/7/2015
| Farm Service Agency | Chief of Staff | DA150168 | 8/11/2015
| Office of the Under Secretary for Marketing and Regulatory Programs | Chief of Staff | DA150186 | 8/31/2015
DEPARTMENT OF COMMERCE | Office of Deputy Assistant Secretary for Legislative and Intergovernmental Affairs | Associate Director for Oversight | DC150145 | 8/5/2015
| Minority Business Development Agency | Senior Advisor | DC150139 | 8/7/2015
| Office of the Deputy Secretary | Deputy Chief Data Officer | DC150144 | 8/11/2015
| Office of the Chief of Staff | Advance Assistant | DC150146 | 8/11/2015
| Office of Policy and Strategic Planning | Senior Policy Advisor | DC150147 | 8/11/2015
| Assistant Secretary and Director General for United States and Foreign Commercial Service | Special Advisor | DC150149 | 8/19/2015
| Office of Public Affairs | Deputy Speechwriter | DC150153 | 8/25/2015
|  | Press Assistant | DC150156 | 8/25/2015
| Office of Scheduling and Advance | Scheduler | DC150157 | 8/25/2015
| Office of Executive Secretariat | Deputy Director | DC150163 | 8/25/2015
DEPARTMENT OF DEFENSE | Washington Headquarters Services | Defense Fellow | DD150173 | 8/20/2015
| Office of the Director of Defense Research and Engineering | Special Assistant (Research and Engineering) | DD150178 | 8/21/2015
| Office of the Assistant Secretary of Defense (Asian and Pacific Security Affairs) | Special Assistant for Afghanistan, Pakistan and Central Asia | DD150172 | 8/24/2015
| Office of the Assistant Secretary of Defense (International Security Affairs) | Special Assistant for Middle East Policy | DD150175 | 8/24/2015
DEPARTMENT OF THE ARMY | Office Assistant Secretary Army (Acquisition, Logistics and Technology) | Senior Advisor (Acquisition, Logistics and Technology) | DW150055 | 8/26/2015
DEPARTMENT OF EDUCATION | Office of the Under Secretary | Special Assistant | DB150113 | 8/5/2015
| Office of Legislation and Congressional Affairs | Confidential Assistant | DB150114 | 8/5/2015
| Office of the Deputy Secretary | Confidential Assistant | DB150115 | 8/10/2015
| Office of Communications and Outreach | Deputy Chief of Staff Senior Writer | DB150117 DB150119 | 8/19/2015 8/24/2015
| Office of Planning, Evaluation and Policy Development | Deputy Assistant Secretary for P-12 Education | DB150121 | 8/27/2015
DEPARTMENT OF ENERGY | Office of the Secretary of Energy Advisory Board | Principal Deputy Director | DE150112 | 8/5/2015
| Office of the Assistant Secretary for Nuclear Energy | Senior Advisor | DE150129 | 8/5/2015
|  | Senior Communications Advisor | DE150126 | 8/20/2015
| Office of the Deputy Secretary | Special Assistant (2) | DE150124 | 8/17/2015
|  |  | DE150125 | 8/17/2015
| Loan Programs Office | Director of Strategic Initiatives | DE150108 | 8/20/2015
| Office of Energy Policy and Systems Analysis | Special Advisor | DE150127 | 8/20/2015
| Office of Management | Senior Advisor | DE150136 | 8/20/2015
ENVIRONMENTAL PROTECTION AGENCY | Office of Public Affairs | Deputy Press Secretary | EP150048 | 8/11/2015
EXPORT-IMPORT BANK | Office of Communications | Director of Media Relations | EB150005 | 8/26/2015
FEDERAL TRADE COMMISSION | Office of Public Affairs | Public Affairs Specialist | FT150009 | 8/13/2015
GENERAL SERVICES ADMINISTRATION | Office of the Regional Administrators | Special Assistant (National Capital Region) | GS150047 | 8/4/2015
| Great Lakes Region | Special Assistant | GS150048 | 8/10/2015
| Mid-Atlantic Region | Special Assistant | GS150050 | 8/14/2015
| Office of the Administrator | Special Assistant | GS150051 | 8/21/2015
| Office of Congressional and Intergovernmental Affairs | Deputy Associate Administrator for Policy | GS150052 | 8/21/2015
DEPARTMENT OF HEALTH AND HUMAN SERVICES | Office of the Secretary | Senior Advisor | DH150175 | 8/7/2015
|  | Confidential Assistant | DH150179 | 8/7/2015
| Office of the Assistant Secretary for Public Affairs | Confidential Assistant | DH150178 | 8/25/2015
|  | Press Secretary | DH150184 | 8/26/2015
| Office of the Assistant Secretary for Health | Speechwriter | DH150185 | 8/26/2015
DEPARTMENT OF HOMELAND SECURITY | Office of the Assistant Secretary for Public Affairs | Press Assistant Deputy Press Secretary | DM150223 DM150222 | 8/3/2015 8/4/2015
|  | Press Secretary | DM150225 | 8/11/2015
|  | Communications Director | DM150244 | 8/21/2015
| Office of the Chief of Staff | Special Assistant | DM150229 | 8/4/2015
DEPARTMENT OF HOUSING AND URBAN DEVELOPMENT | Office of Public Affairs | Deputy Assistant Secretary for Public Affairs | DU150072 | 8/12/2015
|  | Special Advisor for Public Engagement | DU150071 | 8/20/2015
|  | Director of Strategic Communications | DU150073 | 8/28/2015
| Office of the Secretary | Senior Policy Advisor | DU150069 | 8/27/2015
DEPARTMENT OF JUSTICE | Office of Legal Policy | Counsel | DJ150101 | 8/5/2015
| Office of the Deputy Attorney General | Senior Counsel Special Assistant | DJ150100 DJ150126 | 8/14/2015 8/27/2015
| Antitrust Division | Chief of Staff | DJ150112 | 8/14/2015
DEPARTMENT OF LABOR | Office of the Secretary | Advisor for Private Sector Engagement | DL150078 | 8/4/2015
|  | Special Assistant | DL150080 | 8/13/2015
| Office of Public Affairs | Special Assistant | DL150079 | 8/27/2015
| Employment and Training Administration | Senior Policy Advisor | DL150084 | 8/27/2015
NATIONAL AERONAUTICS AND SPACE ADMINISTRATION | Office of Legislative and Intergovernmental Affairs | Legislative Affairs Specialist | NN150068 | 8/3/2015
| Office of the Administrator | White House Liaison | NN150073 | 8/25/2015
NATIONAL ENDOWMENT FOR THE ARTS | Office of the Chief of Staff | Special Assistant for Congressional Affairs/Council Operations | NA150006 | 8/17/2015
NATIONAL TRANSPORTATION SAFETY BOARD | Office of the Managing Director | Confidential Assistant | TB150007 | 8/12/2015
OFFICE OF MANAGEMENT AND BUDGET | Health Division | Confidential Assistant | BO150037 | 8/20/2015
SMALL BUSINESS ADMINISTRATION | Office of the Ombudsman Office of Capital Access | Senior Advisor Special Advisor | SB150048 SB150051 | 8/3/2015 8/5/2015
DEPARTMENT OF STATE | Office of the Under Secretary for Economic Growth, Energy, and the Environment | Special Envoy and Coordinator for International Energy Affairs | DS150116 | 8/14/2015
| Bureau of Arms Control, Verification, and Compliance | Public Affairs Specialist | DS150117 | 8/21/2015
| Office of the Global Women's Issues | Staff Assistant | DS150114 | 8/26/2015
| Bureau of Western Hemisphere Affairs | Deputy Assistant Secretary | DS150120 | 8/26/2015
DEPARTMENT OF TRANSPORTATION | Office of Public Affairs Office of the Chief Information Officer | Press Secretary Special Advisor | DT150076 DT150077 | 8/3/2015 8/17/2015
| Office of the Assistant Secretary for Governmental Affairs | Deputy Assistant Secretary for Governmental Affairs | DT150078 | 8/17/2015
| Office of the Secretary | Deputy White House Liaison | DT150081 | 8/24/2015
DEPARTMENT OF THE TREASURY | Office of the Secretary of the Treasury | Deputy Executive Secretary | DY150133 | 8/20/2015
| Office of the Assistant Secretary (Public Affairs) | Confidential Assistant | DY150134 | 8/27/2015
UNITED STATES INTERNATIONAL TRADE COMMISSION | Office of the Chairman | Confidential Assistant Staff Assistant (Economics) | TC150005 TC150006 | 8/25/2015 8/25/2015

The following Schedule C appointing authorities were revoked during August 2015.

Agency name | Organization name | Position title | Authorization No. | Vacate date
DEPARTMENT OF COMMERCE | Office of Scheduling and Advance | Director of Scheduling | DC150031 | 8/18/2015
| Office of Director General of the United States and Foreign Commercial Service and Assistant Secretary for Global Markets | Special Assistant | DC150011 | 8/22/2015
| Office of Executive Secretariat | Deputy Director, Executive Secretariat | DC140016 | 8/22/2015
| Office of the Under Secretary | Senior Advisor | DC140021 | 8/29/2015
OFFICE OF THE SECRETARY OF DEFENSE | Office of Assistant Secretary of Defense (Reserve Affairs) | Special Assistant to the Assistant Secretary of Defense (Reserve Affairs) | DD130022 | 8/8/2015
| Office of the Assistant Secretary of Defense (Legislative Affairs) | Special Assistant | DD140065 | 8/8/2015
| Office of the Secretary | Confidential Assistant | DD140142 | 8/8/2015
|  | Protocol Officer | DD120017 | 8/8/2015
DEPARTMENT OF ENERGY | Office of Public Affairs | Deputy Press Secretary | DE140043 | 8/22/2015
ENVIRONMENTAL PROTECTION AGENCY | Office of Public Affairs | Deputy Press Secretary | EP140023 | 8/15/2015
GENERAL SERVICES ADMINISTRATION | Office of Congressional and Intergovernmental Affairs | Deputy Associate Administrator for Policy | GS130002 | 8/9/2015
| Office of the Regional Administrators | Special Assistant to the Regional Administrator | GS140049 | 8/9/2015
DEPARTMENT OF HEALTH AND HUMAN SERVICES | Office of the Assistant Secretary for Public Affairs | Director of Public Health Initiatives | DH130060 | 8/7/2015
| Office of the Assistant Secretary for Legislation | Special Assistant and Director of Special Projects | DH140123 | 8/8/2015
| Office of the Secretary | Special Advisor to the Secretary | DH140072 | 8/8/2015
DEPARTMENT OF HOMELAND SECURITY | Office of the Under Secretary for National Protection and Programs Directorate | Special Assistant | DM120155 | 8/7/2015
| Office of the Assistant Secretary for Public Affairs | Press Assistant Press Secretary | DM140137 DM140231 | 8/8/2015 8/22/2015
|  | Strategic Planning and Coordination Advisor | DM140193 | 8/22/2015
| Office of the Executive Secretariat | Special Assistant | DM140140 | 8/8/2015
| Office of the Secretary | Special Assistant to the Senior Counselor | DM150181 | 8/8/2015
| Office of the Chief of Staff | Special Assistant to the White House Liaison | DM150158 | 8/22/2015
DEPARTMENT OF HOUSING AND URBAN DEVELOPMENT | Office of Public Affairs | Press Secretary | DU140021 | 8/22/2015
DEPARTMENT OF JUSTICE | Antitrust Division | Chief of Staff | DJ140114 | 8/22/2015
| Office of the Deputy Attorney General | Counsel | DJ130044 | 8/22/2015
DEPARTMENT OF STATE | Foreign Policy Planning Staff | Speechwriter (2) | DS130094 | 8/8/2015
|  |  | DS130096 | 8/9/2015
DEPARTMENT OF TRANSPORTATION | Office of the Assistant Secretary for Budget and Programs | Deputy Assistant Secretary for Finance and Budget | DT140006 | 8/22/2015
| Office of the Assistant Secretary for Governmental Affairs | Director of Governmental Affairs | DT150010 | 8/22/2015

Authority: 5 U.S.C. 3301 and 3302; E.O. 10577, 3 CFR, 1954-1958 Comp., p. 218.

U.S. Office of Personnel Management.
Beth F. Cobert,
Acting Director.

[FR Doc. 2015-28567 Filed 11-9-15; 8:45 am]

BILLING CODE 6325-39-P